DEPARTMENT OF ENERGY

Federal Energy Regulatory Commission

[Docket No. RD11-8-000]

Commission Information Collection Activities (FERC-725I); Comment Request

AGENCY: Federal Energy Regulatory Commission.

ACTION: Comment request.

SUMMARY: In compliance with the requirements of the Paperwork Reduction Act of 1995, 44 U.S.C. 3507(a)(1)(D), the Federal Energy Regulatory Commission (Commission or FERC) is submitting the information collection FERC-725I, Mandatory Reliability Standards for the Northeast Power Coordinating Council, to the Office of Management and Budget (OMB) for review of the information collection requirements. Any interested person may file comments directly with OMB and should address a copy of those comments to the Commission as explained below. The Commission solicited comments in an order published in the Federal Register (76 FR 66057, 10/25/2011) requesting public comments. FERC received no comments on the FERC-725I and is making this notation in its submission to OMB.

DATES: Comments on the collection of information are due by February 24, 2012.

ADDRESSES: Comments filed with OMB, identified by collection FERC-725I, should be sent via email to the Office of Information and Regulatory Affairs: oira_submission@omb.gov. Attention: Federal Energy Regulatory Commission Desk Officer. The Desk Officer may also be reached via telephone at (202) 395-4718.

A copy of the comments should also be sent to the Federal Energy Regulatory Commission, identified by the Docket No. RD11-8-000, by either of the following methods:

• eFiling at Commission's Web Site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-725I, Mandatory Reliability Standards for the Northeast Power Coordinating Council.

OMB Control No.: To be determined.

Type of Request: Three-year approval of the FERC-725I information collection requirements.

Abstract: This information collection relates to FERC-approved Reliability Standard, PRC-002-NPCC-01—Disturbance Monitoring. This Northeast Power Coordinating Council (NPCC) regional Reliability Standard requires respondents to provide recording capability necessary to monitor the response of the Bulk-Power System to system disturbances, including scheduled and unscheduled outages; requires each reliability coordinator to establish requirements for its area's dynamic disturbance recording needs; and establishes disturbance data reporting requirements.

Reliability Standard PRC-002-NPCC-01 introduces several new mandatory and enforceable requirements for the applicable entities. However, NPCC presently has criteria ¹ and published guidance ² addressing similar requirements that the new Reliability Standard make mandatory. Thus, it is currently usual and customary for affected entities within NPCC to create, maintain and store some of the same or equivalent information identified in Reliability Standard PRC-002-NPCC-01. Therefore, many of the requirements contained in PRC-002-NPCC-01 do not impose new burdens on the affected entities.³

¹ Disturbance Monitoring Equipment Criteria (Aug. 2007), available at https://www.npcc.org/Standards/Criteria/A-15.pdf (Disturbance Monitoring Criteria).

² Guide for Application of Disturbance Recording Equipment (Sept. 2006), available at https://www.npcc.org/Standards/Guides/B-26.pdf (Application Guide).

³ 5 CFR 1320.3(b)(2) (2011).

Several requirements contained in regional Reliability Standard PRC-002-NPCC-01 do introduce entirely new responsibilities for the applicable entities and each of these is listed in the estimated annual burden section below.

Type of Respondents: Transmission owners, generator owners and reliability coordinators within the NPCC region.⁴

⁴ These entity types are contained in the North American Electric Reliability Corporation's compliance registry. See http://www.nerc.com/page.php?cid=3|25 for more information.

Estimate of Annual Burden: ⁵

⁵ Burden is defined as the total time, effort, or financial resources expended by persons to generate, maintain, retain, or disclose or provide information to or for a Federal agency. For further explanation of what is included in the information collection burden, reference 5 Code of Federal Regulations 1320.3.

PRC-002-NPCC-01 | Number of respondents annually ⁶ | Number of responses per respondent | Average burden hours per response | Total annual hours
| (1) | (2) | (3) | (1×2×3)
R13: GO ⁷ and TO to document acquisition and installation of dynamic disturbance recorders. GO, TO, and RC to develop and employ implementation schedule | 1 | 1 | Record Retention—10 | 10
R14.5: GO and TO maintenance and testing program for stand-alone disturbance monitoring equipment includes monthly verification of active analog quantities | 163 | 12 | Record Retention—5 | 9,780
R14.7: GO and TO requirement to return failed units to service in 90 days. Record kept of efforts if greater than 90 days ⁸ | 33 | 1 | Reporting (assessment and dist. of records)—10 | 330
|  |  | Record Retention—10 | 330
R17: RC maintains data on equipment, and provide to RE upon request | 5 | 1 | Reporting (assessment and dist. of data)—5 | 25
|  |  | Record Retention—10 | 50
Sub-total |  |  | Reporting (assessment and dist) | 355
|  |  | Record Retention | 10,170
Total |  |  |  | 10,525

The total estimated annual cost resulting from this Reliability Standard is made up the hourly wage cost for record retention and reporting, and the compliance cost for new equipment. The total cost ⁹ is $1,077,360 ($284,760 + $42,600 + $750,000). The individual components of this cost are:

⁶ The estimate below regarding the number of respondents is based on the NERC compliance registry as of August 29, 2011. After accounting for double counting, the net number of entities responding will be approximately 167 entities registered as a transmission owner, generation owner, or reliability coordinator.

⁷ For purposes of this chart, generation owner is abbreviated to GO, transmission owner is abbreviated to TO, and reliability coordinator is abbreviated to RC.

⁸ We estimate that an entity will experience a unit failure greater than 90 days once every five years. Therefore, 20 percent of NPCC's 163 generator owners and transmission owners will experience a unit failure of this duration each year.

⁹ In the initial order there was a calculation error in the total cost and in the record retention cost. The difference is minor and has been corrected here.

• Estimated annual record retention cost ¹⁰ = 10,170 hours @ $28/hour = $284,360

¹⁰ The hourly reporting cost is based on the estimated cost of an engineer to implement the requirements of the rule. The record retention cost comes from Commission staff research on record retention requirements.

• Estimated annual reporting cost = 355 hours @ $120/hour = $ 42,600

Total estimated non-hourly annual compliance cost ¹¹ (acquisition and installation of dynamic disturbance recorders) = $750,000

¹¹ We estimate that annually, approximately one entity within NPCC will have to procure dynamic disturbance recording capability and the total acquisition and installation cost will range between $150,000 and $750,000. We use the higher estimate here.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: January 18, 2012.
Kimberly D. Bose,
Secretary.

[FR Doc. 2012-1472 Filed 1-24-12; 8:45 am]

BILLING CODE 6717-01-P